DEPARTMENT OF TRANSPORTATION

Federal Aviation Administration

14 CFR Part 39

[Docket No. FAA-2021-1176; Project Identifier MCAI-2021-00755-R; Amendment 39-21978; AD 2022-06-12]

RIN 2120-AA64

Airworthiness Directives; Airbus Helicopters

AGENCY: Federal Aviation Administration (FAA), DOT.

ACTION: Final rule.

SUMMARY: The FAA is adopting a new airworthiness directive (AD) for certain Airbus Helicopters Model SA330J helicopters. This AD was prompted by a review of Model EC225LP helicopter data that revealed potential tightening torque loss of the attachment screws of the upper deck fittings of the three main gearbox (MGB) suspension bars. Due to design similarities, the MGB right-hand (RH) rear fittings and MGB RH rear fitting attachment screws on Model SA330J helicopters could also be affected. Additional analysis confirmed that the service life limit (life limit) (SLL) for these affected MGB RH rear fittings needs to be reduced for helicopters on which these affected parts were operated concurrently with metallic main rotor blades installed. This AD requires determining the damage value and SLL of each affected MGB RH rear fitting, replacing each affected MGB RH rear fitting with a new part, and replacing the MGB RH rear fitting attachment screws, as specified in a European Union Aviation Safety Agency (EASA) AD, which is incorporated by reference. The FAA is issuing this AD to address the unsafe condition on these products.

DATES: This AD is effective May 9, 2022.

The Director of the Federal Register approved the incorporation by reference of a certain publication listed in this AD as of May 9, 2022.

ADDRESSES: For EASA material incorporated by reference (IBR) in this final rule, contact EASA, Konrad-Adenauer-Ufer 3, 50668 Cologne, Germany; telephone: +49 221 8999 000; email: ADs@easa.europa.eu; internet: www.easa.europa.eu. You may find the EASA material on the EASA website at https://ad.easa.europa.eu. You may view this material at the FAA, Office of the Regional Counsel, Southwest Region, 10101 Hillwood Pkwy., Room 6N-321, Fort Worth, TX 76177. For information on the availability of this material at the FAA, call (817) 222-5110. It is also available in the AD docket at https://www.regulations.gov by searching for and locating Docket No. FAA-2021-1176.

Examining the AD Docket

You may examine the AD docket at https://www.regulations.gov by searching for and locating Docket No. FAA-2021-1176; or in person at Docket Operations between 9 a.m. and 5 p.m., Monday through Friday, except Federal holidays. The AD docket contains this final rule, the European Union Aviation Safety Agency (EASA) AD, any comments received, and other information. The address for Docket Operations is U.S. Department of Transportation, Docket Operations, M-30, West Building Ground Floor, Room W12-140, 1200 New Jersey Avenue SE, Washington, DC 20590.

FOR FURTHER INFORMATION CONTACT: Hal Jensen, Aerospace Engineer, Operational Safety Branch, FAA, 950 L'Enfant Plaza SW, Washington, DC 20024; telephone: (202) 267-9167; email: hal.jensen@faa.gov.

SUPPLEMENTARY INFORMATION:

Background

EASA, which is the Technical Agent for the Member States of the European Union, has issued EASA AD 2021-0152R1, dated July 20, 2021 (EASA AD 2021-0152R1), to correct an unsafe condition for Airbus Helicopters (formerly Eurocopter, Eurocopter France, Aerospatiale, Sud Aviation) Model SA 330 J helicopters, all serial numbers, which were modified in service in accordance with the instructions of Eurocopter France Service Bulletin (SB) No. 01.20 (part of which is the in-service retrofit Modification (Mod) 07 40043), except those on which each affected part (as defined in EASA AD 2021-0152R1) was replaced with a new part (not previously installed) during embodiment of Eurocopter France SB No. 01.20 in service.

The FAA issued a notice of proposed rulemaking (NPRM) to amend 14 CFR part 39 by adding an AD that would apply to certain Airbus Helicopters Model SA330J helicopters. The NPRM published in the Federal Register on January 13, 2022 (87 FR 2085). The NPRM was prompted by a review of Model EC225LP helicopter in-service data that revealed potential tightening torque loss of the attachment screws of the upper deck fittings of the three MGB suspension bars. The FAA issued AD 2020-06-12, Amendment 39-19881 (85 FR 19077, April 6, 2020) to address the unsafe condition on Model EC225LP helicopters). Due to design similarities, the MGB RH rear fittings and MGB RH rear fitting attachment screws on Model SA330J helicopters could also be affected. Additional analysis confirmed that the SLL for these affected MGB RH rear fittings needs to be reduced for helicopters on which these affected parts were operated concurrently with metallic main rotor blades (pre-Airbus Helicopters Modification 07 40043) installed. Airbus Helicopters Modification 07 40043 introduced the installation of composite main rotor blades. The NPRM proposed to require determining the damage value and SLL of each affected MGB RH rear fitting, replacing each affected MGB RH rear fitting with a new part, and replacing the MGB RH rear fitting attachment screws, as specified in EASA AD 2021-0152R1.

The FAA is issuing this AD to address tightening torque loss of the attachment screws of the upper deck fittings of the three MGB suspension bars. The unsafe condition, if not addressed, could result in structural failure of the MGB RH rear fittings and MGB RH rear fitting attachment screws, resulting in detachment of the MGB suspension bars and consequent loss of control of the helicopter. See EASA AD 2021-0152R1 for additional background information.

Discussion of Final Airworthiness Directive

Comments

The FAA received no comments on the NPRM or on the determination of the costs.

Conclusion

These helicopters have been approved by EASA and are approved for operation in the United States. Pursuant to the FAA's bilateral agreement with the European Union, EASA has notified the FAA about the unsafe condition described in its AD. The FAA reviewed the relevant data and determined that air safety requires adopting this AD as proposed. Accordingly, the FAA is issuing this AD to address the unsafe condition on these helicopters. Except for minor editorial changes, this AD is adopted as proposed in the NPRM.

Related Service Information Under 1 CFR Part 51

EASA AD 2021-0152R1 requires determining the damage value of each affected MGB RH rear fitting by calculating the damage caused during the time each affected part was operated concurrently with metallic main rotor blades installed on the helicopter, calculating the SLL for each affected MGB RH rear fitting, and eventually replacing each affected MGB RH rear fitting and the MGB RH rear fitting attachment screws with new parts. This material is reasonably available because the interested parties have access to it through their normal course of business or by the means identified in the ADDRESSES section.

Costs of Compliance

The FAA estimates that this AD affects 15 helicopters of U.S. Registry. Labor rates are estimated at $85 per work-hour. Based on these numbers, the FAA estimates the following costs to comply with this AD.

Estimated Costs
Action | Labor cost | Parts cost | Cost per product | Cost on U.S. operators
Determine damage value and SLL | 1 work-hours × $85 per hour = $85 | $0 | $85 | $1,275
Replace parts | 8 work-hours × $85 per hour = $680 | 7,540 | 8,220 | 123,300

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-06-12 Airbus Helicopters: Amendment 39-21978; Docket No. FAA-2021-1176; Project Identifier MCAI-2021-00755-R.

(a) Effective Date

This airworthiness directive (AD) is effective May 9, 2022.

(b) Affected ADs

None.

(c) Applicability

This AD applies to Airbus Helicopters Model SA330J helicopters, certificated in any category, as identified in European Union Aviation Safety Agency (EASA) AD 2021-0152R1, dated July 20, 2021 (EASA AD 2021-0152R1).

(d) Subject

Joint Aircraft Service Component (JASC) Code: 6300, Main Rotor Drive System.

(e) Unsafe Condition

This AD was prompted by a review of Airbus Helicopters Model EC225LP helicopter data that revealed potential tightening torque loss of the attachment screws of the upper deck fittings of the three main gearbox (MGB) suspension bars. Due to design similarities, the MGB right-hand (RH) rear fittings and MGB RH rear fitting attachment screws on Model SA330J helicopters could also be affected. Additional analysis confirmed that the service life limit (life limit) (SLL) for the affected MGB RH rear fittings needs to be reduced for helicopters on which these affected parts were operated concurrently with metallic main rotor blades installed. The FAA is issuing this AD to address tightening torque loss of the attachment screws of the upper deck fittings of the three MGB suspension bars. The unsafe condition, if not addressed, could result in structural failure of the MGB RH rear fittings and MGB RH rear fitting attachment screws, resulting in detachment of the MGB suspension bars and consequent loss of control of the helicopter.

(f) Compliance

Comply with this AD within the compliance times specified, unless already done.

(g) Requirements

Except as specified in paragraph (h) of this AD: Comply with all required actions and compliance times specified in, and in accordance with, EASA AD 2021-0152R1.

(h) Exceptions to EASA AD 2021-0152R1

(1) Where EASA AD 2021-0152R1 requires compliance in terms of flight hours, this AD requires using hours time-in-service.

(2) Where EASA AD 2021-0152R1 refers to July 9, 2021 (the effective date of EASA AD 2021-0152R1, dated June 25, 2021), this AD requires using the effective date of this AD.

(3) Where the service information referenced in EASA AD 2021-0152R1 specifies discarding parts, this AD requires removing those parts from service.

(4) Although the service information referenced in EASA AD 2021-0152R1 specifies that “The work must be performed on the helicopter by the operator.” this AD does not require that the operator perform the work.

(5) This AD does not mandate compliance with the “Remarks” section of EASA AD 2021-0152R1.

(6) The preliminary steps specified in paragraph 3.B.1. of the service information referenced in EASA AD 2021-0152R1 are not required for compliance with this AD.

(7) Although the service information referenced in EASA AD 2021-0152R1 specifies contacting Airbus Helicopters if the time since new (TSN) is unknown at the retrofit date, this AD requires determining the damage value and the SLL of each affected part but does not require contacting Airbus Helicopters if the TSN is unknown at the retrofit date.

(i) No Reporting Requirement

Although the service information referenced in EASA AD 2021-0152R1 specifies to submit certain information to the manufacturer, this AD does not include that requirement.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD. Information may be emailed to: 9-AVS-AIR-730-AMOC@faa.gov.

(2) Before using any approved AMOC, notify your appropriate principal inspector, or lacking a principal inspector, the manager of the local flight standards district office/certificate holding district office.

(k) Related Information

For more information about this AD, contact Hal Jensen, Aerospace Engineer, Operational Safety Branch, FAA, 950 L'Enfant Plaza SW, Washington, DC 20024; telephone: (202) 267-9167; email: hal.jensen@faa.gov.

(l) Material Incorporated by Reference

(1) The Director of the Federal Register approved the incorporation by reference of the service information listed in this paragraph under 5 U.S.C. 552(a) and 1 CFR part 51.

(2) You must use this service information as applicable to do the actions required by this AD, unless this AD specifies otherwise.

(i) European Union Aviation Safety Agency (EASA) AD 2021-0152R1, dated July 20, 2021.

(ii) [Reserved].

(3) For EASA AD 2021-0152R1, contact EASA, Konrad-Adenauer-Ufer 3, 50668 Cologne, Germany; telephone: +49 221 8999 000; email: ADs@easa.europa.eu; internet: www.easa.europa.eu. You may find the EASA material on the EASA website at https://ad.easa.europa.eu.

(4) You may view this service information at the FAA, Office of the Regional Counsel, Southwest Region, 10101 Hillwood Pkwy., Room 6N-321, Fort Worth, TX 76177. For information on the availability of this material at the FAA, call (817) 222-5110. This material may be found in the AD docket at https://www.regulations.gov by searching for and locating Docket No. FAA-2021-1176.

(5) You may view this material that is incorporated by reference at the National Archives and Records Administration (NARA). For information on the availability of this material at NARA, email fr.inspection@nara.gov, or go to: https://www.archives.gov/federal-register/cfr/ibr-locations.html.

Issued on March 10, 2022.
Lance T. Gant,
Director, Compliance & Airworthiness Division, Aircraft Certification Service.

[FR Doc. 2022-06940 Filed 4-1-22; 8:45 am]

BILLING CODE 4910-13-P